ENVIRONMENTAL PROTECTION AGENCY

[OEI-100001; FRL-6592-2]

Toxics Release Inventory; Alternate Threshold for Low Annual Reportable Amounts; Agency Information Collection Activities: Proposed Collection; Comment Request

AGENCY: Environmental Protection Agency (EPA).

ACTION: Notice and request for comments.

SUMMARY: In compliance with the Paperwork Reduction Act (44 U.S.C. 3501 et seq.), this document announces that EPA is planning to submit the following continuing Information Collection Request (ICR) to the Office of Management and Budget (OMB) pursuant to the procedures described in 5 CFR 1320.12. The ICR is a continuing ICR titled:Alternate Threshold for Low Annual Reportable Amounts, Toxic Chemical Release Reporting (EPA ICR No. 1704.05, OMB Control No. 2070-0143). This ICR covers the reporting and recordkeeping requirements associated with reporting under the alternate threshold for reporting to the Toxic Release Inventory (TRI), which appear at 40 CFR part 372. An Agency may not conduct or sponsor, and a person is not required to respond to, a collection of information unless it displays a currently valid OMB control number. The OMB control numbers for EPA's regulations are listed in 40 CFR part 9 and 48 CFR chapter 15. Before submitting the ICR to OMB for review and approval, EPA is soliciting comments on specific aspects of the proposed information collection as described below.

DATES: Written comments, identified by the docket control number OEI-100001, must be received by EPA on or before September 5, 2000.

ADDRESSES: Comments may be submitted by mail, electronically, or in person. Please follow the detailed instructions for each method as provided in Unit I. of the SUPPLEMENTARY INFORMATION section of this document.

FOR FURTHER INFORMATION CONTACT: For general information contact: Maria Doa, Director, Toxic Releases Inventory Program Division, Office of Information Analysis and Access, Environmental Protection Agency, 1200 Pennsylvania Ave. NW, Washington, DC 20460, Telephone: 202-260-1488. For technical information contact: Judith Kendall, Toxic Releases Inventory Program Division, Office of Information Analysis and Access, Environmental Protection Agency, 1200 Pennsylvania Ave. NW., Washington, DC 20460; Telephone: 202-260-1802; Fax: 202-401-0237; email: kendall.judith@epamail.epa.gov.

SUPPLEMENTARY INFORMATION:

I. General Information

A. Affected Entities

Entities potentially affected by this action are those chemical facilities that manufacture, process, or otherwise use certain toxic chemicals listed on the Toxics Release Inventory (TRI) and which are required under section 313 of the Emergency Planning and Community Right-to-Know Act of 1986 (EPCRA), to report annually to EPA their environmental releases of such chemicals.

B. To Obtain Additional Information, Copies of this Document, or Other Support Documents

1. Electronic availability. Electronic copies of the ICR are available from the EPA Home Page at the Federal Register—Environmental Documents entry for this document under “Laws and Regulations” http://www.epa.gov/fedrgstr/. An electronic copy of the collection instrument referenced in this ICR and instructions for its completion are available at http://www.epa.gov/tri/report.htm.

2. In person. The Agency has established an official record for this action under docket control number OEI-100001. The official record consists of the documents specifically referenced in this action, any public comments received during an applicable comment period, and other information related to this action, including any information claimed as confidential business information (CBI). This official record includes the documents that are physically located in the docket, as well as the documents that are referenced in those documents. The public version of the official record does not include any information claimed as CBI. The public version of the official record, which includes printed, paper versions of any electronic comments submitted during an applicable comment period, is available for inspection in the TSCA Nonconfidential Information Center, North East Mall Rm. B-607, Waterside Mall, 401 M St., SW., Washington, DC. The Center is open from noon to 4 p.m., Monday through Friday, excluding legal holidays. The telephone number of the Center is (202) 260-7099.

C. To Submit Comments

You may submit comments through the mail, in person, or electronically. Be sure to identify the appropriate docket control number (i.e., “OEI-100001”) in your correspondence.

1. By mail. All comments should be sent in triplicate to : Document Control Office (7407), Office of Pollution Prevention and Toxics (OPPT), Environmental Protection Agency, 1200 Pennsylvania Ave., NW., Washington, DC 20460.

2. In person or by courier. Comments may be delivered in person or by courier to: OPPT Document Control Office (DCO) in East Tower Rm. G-099, Waterside Mall, 401 M St., SW., Washington, DC. The DCO is open from 8 a.m. to 4 p.m., Monday through Friday, excluding legal holidays. The telephone number for the DCO is (202) 260-7093.

3. Electronically. Submit your comments electronically by e-mail to: “oppt.ncic@epa.gov.” Please note that you should not submit any information electronically that you consider to be CBI. Electronic comments must be submitted as an ASCII file avoiding the use of special characters and any form of encryption. Comments and data will also be accepted on standard computer disks in WordPerfect 6.1/8.0 or ASCII file format. All comments and data in electronic form must be identified by the docket control number OEI-100001. Electronic comments on this document may also be filed online at many Federal Depository Libraries.

All comments which contain information claimed as CBI must be clearly marked as such. Three sanitized copies of any comments containing information claimed as CBI must also be submitted and will be placed in the public record for this document. Persons submitting information on any portion of which they believe is entitled to treatment as CBI by EPA must assert a business confidentiality claim in accordance with 40 CFR 2.203(b) for each such portion. This claim must be made at the time that the information is submitted to EPA. If a submitter does not assert a confidentiality claim at the time of submission, EPA will consider this as a waiver of any confidentiality claim and the information may be made available to the public by EPA without further notice to the submitter.

II. Background

The EPA would like to solicit comments to:

1. Evaluate whether the proposed collection of information is necessary for the proper performance of the functions of the agency, including whether the information will have practical utility.

2. Evaluate the accuracy of the Agency's estimate of the burden of the proposed collection of information, including the validity of the methodology and assumptions used.

3. Enhance the quality, utility, and clarity of the information to be collected.

4. Minimize the burden of the collection of information on those who are to respond, including through the use of appropriate automated electronic, mechanical, or other technological collection techniques or other forms of information technology, e.g., permitting electronic submission of responses.

EPA is seeking comments on the following ICR, as well as the Agency's intention to renew the corresponding OMB approval, which is currently scheduled to expire on February 28, 2001.

Title: Alternate Threshold for Low Annual Reportable Amounts.

ICR numbers: EPA ICR No. 1704.05, OMB No. 2070-0143, expiring February 28, 2001.

Abstract: EPCRA section 313 requires certain facilities manufacturing, processing, or otherwise using certain toxic chemicals in excess of specified threshold quantities to report their environmental releases of such chemicals annually. Each such facility must file a separate report for each such chemical.

In accordance with the authority in EPCRA, EPA has established an alternate threshold for those facilities with low amounts of a listed toxic chemical in wastes. A facility that otherwise meets the current reporting thresholds but estimates that the total amount of the chemical in total waste does not exceed 500 pounds per year, and that the chemical was manufactured, processed, or otherwise used in an amount not exceeding 1 million pounds during the reporting year, can take advantage of reporting under the alternate threshold option for that chemical for that reporting year.

Each qualifying facility that chooses to apply the revised threshold must file the Form A (EPA Form 9350-2) in lieu of a complete TRI reporting Form R (EPA Form 9350-1). In submitting the Form A, the facility certifies that the sum of the amount of the EPCRA section 313 chemical in wastes did not exceed 500 pounds for the reporting year, and that the chemical was manufactured, processed, or otherwise used in an amount not exceeding 1 million pounds during the reporting year. Use of the Form A in place of the Form R represents a substantial savings to respondents, both in burden hours and in labor costs.

The primary function served by the submission of the Form A is to satisfy the statutory requirement to maintain reporting on a substantial majority of releases for all listed chemicals. Without the Form A, users of TRI data would not have access to any information on these chemicals. The Form A also serves as a de facto range report, which is useful to any party interested in amounts being handled at a particular facility or for broader statistical purposes. Additionally, the Form A provides compliance monitoring and enforcement programs and other interested parties with a means to track chemical management activities and verify overall compliance with the rule. Responses to this collection of information are mandatory (see 40 CFR part 372) and facilities subject to reporting must either submit a Form A or a Form R.

Burden statement: The annual public burden for this collection of information, which is approved under OMB Control No. 2070-0143, is estimated to average 34.6 hours per each form, for a facility which certifies one chemical per form A. For facilities which choose to certify two chemicals per form A, the estimated burden is 67.8 hours per form. Responding to this information collection requires: (1) Determining whether a listed toxic chemical is eligible for certification under the alternate threshold, and (2) completing the Form A. The burden of determining eligibility for certification is estimated to average 33.2 hours for each chemical that is certified. The burden of completing the Form A is estimated to average 1.4 hours, regardless of the number of chemicals being certified. The total burden per response is the combination of these two, and will vary depending on the number of listed toxic chemicals being certified.

EPA estimates that as many as 7,397 respondents may submit a Form A with these responses containing a total of 14,793 certifications. Total respondent burden and cost for completing those Form As are estimated at approximately 582,000 burden hours and $45.3 million per year. (The alternate threshold may save reporting facilities up to 189,000 hours, with a dollar value of $11 million, compared to the cost of reporting on Form R.) The estimated burden in this supporting statement differs from what is currently in OMB's inventory for alternate threshold reporting (13,157 respondents, 9,072 responses, and 646,875 burden hours) as a result of both an adjustment and a program change. The adjustment was made by calculating the number of eligible respondents and responses from the manufacturing sector based on TRI data from the 1998 reporting year (the most recent TRI data available). This adjustment reduced reporting burden by 62,772 hours. The program change was made by excluding the reporting of PBT chemicals on Form A. This change reduces the burden associated with this collection. The portion of the change due to this regulatory change decreases burden by 2,114 hours.

Estimated number of respondents: 7,397 respondents.

Estimated total annual burden on respondents: 582,000 burden hours.

Frequency of collection: Annual.

List of Subjects

Environmental protection, Community right-to-know, Reporting and recordkeeping requirements, and Toxic chemicals.

Dated: June 23, 2000.
Margaret N. Schneider,
Principal Deputy Assistant Administrator, Office of Environmental Information.

[FR Doc. 00-16967 Filed 7-5-00; 8:45 am]

BILLING CODE 6560-50-F